DEPARTMENT OF AGRICULTURE

Farm Service Agency

Information Collection: Measurement Service Requests

AGENCY: Farm Service Agency, USDA.

ACTION: Notice; Request for comments.

SUMMARY: In accordance with the Paperwork Reduction Act of 1995, the Farm Service Agency (FSA) is seeking comments from all interested individuals and organizations on a new information collection associated with the Measurement Service Requests.

DATES: Comments on this notice must be received on or before July 10, 2007 to be assured consideration.

ADDRESSES: The comments should be addressed to Sandy Bryant, Common Provisions Branch Chief, USDA, FSA, Farm Programs, Production Emergencies and Compliance Division, 1400 Independence Avenue, SW., STOP 0517, Washington, DC 20250-0523. The comments also may be submitted by e-mail to: Joe.Lewis@wdc.usda.gov. The comments should be also sent to the Desk Officer for Agriculture, Office of Information and Regulatory Affairs, Office of Management and Budget, Washington, DC 20503

FOR FURTHER INFORMATION CONTACT: Joe Lewis, USDA, Farm Service Agency, Production Emergencies and Compliance Division, (202) 720-0795 and Eloise.Taylor@wdc.usda.gov. Comments should include the OMB number and title of the information collection.

SUPPLEMENTARY INFORMATION:

Description of Information Collection

Title: Management Service Requests (FSA-409).

OMB Control Number: 0560-NEW.

Type of Request: New Information Collection.

Abstract: The producers may request measurement services from the FSA using form FSA-409, Measurement Service Records. The measurement service requests, though not required for program participation, are customarily provided by the County Office. The request may include staking, and referencing and measurement after planting, and bin or quantity measurements in accordance with 7 CFR part 718. Information determined by the FSA during a farm visit for measurement services is reported on the FSA-409. Mandatory fees are assessed by the County Office to recover costs associated with a farm visit to perform these services.

Estimate of Annual Burden: Public reporting burden for this collection of information is estimated to average .50 hours per response.

Respondents: Producers.

Estimated Number of Respondents: 135,000.

Estimated Number of Responses per Respondent: 1.0.

Estimated Total Annual Burden on Respondents: 20,250 hours.

Comments are invited on: (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

All comments received in response to this notice, including names and addresses when provided, will be a matter of public record. Comments will be summarized and included in the submission for Office of Management and Budget approval.

Signed in Washington, DC on May 2, 2007.
Teresa C. Lasseter,
Administrator, Farm Service Agency.

[FR Doc. E7-9077 Filed 5-10-07; 8:45 am]

BILLING CODE 3410-05-P